DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 5, 2007.

Interested persons are invited to submit written comments regarding the subject matter of the investigations to the Director, Division of Trade Adjustment Assistance, at the address shown below, not later than February 5, 2007.

The petitions filed in this case are available for inspection at the Office of the Director, Division of Trade Adjustment Assistance, Employment and Training Administration, U.S. Department of Labor, Room C-5311, 200 Constitution Avenue, NW., Washington, DC 20210.

Signed at Washington, DC, this 17th day of January, 2007.
Ralph Dibattista,
Director, Division of Trade Adjustment Assistance.

Appendix
[TAA petitions instituted between 1/8/07 and 1/12/07]
TA-W | Subject firm (petitioners) | Location | Date of institution | Date of petition
60715 | Conair (Wkrs) | Franklin, PA | 01/08/07 | 01/05/07
60716 | A.O. Smith Corporation (Comp) | Mebane, NC | 01/08/07 | 01/04/07
60717 | Lear Corporation (Wkrs) | Romulus, MI | 01/08/07 | 01/05/07
60718 | Renfro Charleston, LLC (Comp) | Cleveland, TN | 01/09/07 | 01/02/07
60719 | Avondale Mills, Inc.—Townsend Plant (Wkrs) | Graniteville, SC | 01/09/07 | 01/08/07
60720 | Delphi Connections Systems/Specialty Electronics (Comp) | Landrum, SC | 01/09/07 | 01/08/07
60721 | Future Tool and Die (Wkrs) | Grandville, MI | 01/09/07 | 01/04/07
60722 | Kirchner Corporation (Wkrs) | Golden Valley, MN | 01/09/07 | 01/08/07
60723 | Pechiney Plastic Packaging (Comp) | Washington, NJ | 01/09/07 | 01/08/07
60724 | General Electric—Conneaut Base Plant (UE) | Conneaut, OH | 01/09/07 | 01/09/07
60725 | Birds Eye Food, Inc. (Comp) | Watsonville, CA | 01/10/07 | 01/09/07
60726 | CNI Duluth, LLC (Wkrs) | Duluth, MN | 01/10/07 | 01/02/07
60727 | Johnson Controls, Inc. (Comp) | Chesapeake, VA | 01/10/07 | 01/09/07
60728 | Johnson Controls (State) | Oklahoma City, OK | 01/10/07 | 12/13/06
60729 | G.C.C. Drum (Wkrs) | Franklin Park, IL | 01/10/07 | 12/29/06
60730 | Jabil (Comp) | Auburn Hills, MI | 01/10/07 | 01/09/07
60731 | Best Manufacturing (Comp) | Menlo, GA | 01/10/07 | 01/09/07
60732 | Trend Tool, Inc. (Comp) | Livonia, MI | 01/10/07 | 12/19/06
60733 | L and R Knitting, Inc. (Comp) | Hickory, NC | 01/10/07 | 01/08/07
60734 | Pearson Artworks (Wkrs) | York, PA | 01/10/07 | 01/09/07
60735 | Waterloo Industries, Inc. (State) | Pocahontas, AR | 01/10/07 | 01/09/07
60736 | Cooper Power System (State) | Fayetteville, AR | 01/10/07 | 01/09/07
60737 | Atwood Mobile Products (UAW) | LaGrange, IN | 01/10/07 | 01/03/07
60738 | Georgia Pacific Corp—Crossett Paper (Wkrs) | Crossett, AR | 01/11/07 | 01/09/07
60739 | Mega Brands (Wkrs) | Woodridge, NJ | 01/11/07 | 12/16/06
60740 | Classic Picture Company, Inc. (Comp) | Dallas, TX | 01/11/07 | 01/10/07
60741 | E. J. Victor, Inc. (Comp) | Morganton, NC | 01/11/07 | 01/10/07
60742 | Jordan Alexander, Inc. (Comp) | Granite Falls, NC | 01/11/07 | 01/10/07
60743 | Atotech USA, Inc. (Comp) | Rock Hill, SC | 01/11/07 | 01/09/07
60744 | Worthington Precision Metals (Comp) | Franklin, TN | 01/11/07 | 01/10/07
60745 | Bush Industries, Inc. (Erie Facility) (Comp) | Erie, PA | 01/11/07 | 01/10/07
60746 | D J, Inc. (Comp) | El Paso, TX | 01/11/07 | 01/05/07
60747 | Aerotek (Comp) | Charlevoix, MI | 01/11/07 | 01/08/07
60748 | Eljer, Inc. (Comp) | Ford City, PA | 01/11/07 | 01/11/07
60749 | Narrow Fabric Industries Corp. (Wkrs) | West Reading, PA | 01/11/07 | 01/09/07
60750 | White Rodgers (State) | Batesville, AR | 01/12/07 | 01/11/07
60751 | Reel Quick, Inc. (Comp) | Lincoln, NE | 01/12/07 | 01/11/07
60752 | Alcoa Engineered Plastic Components (Comp) | El Paso, TX | 01/12/07 | 01/11/07
60753 | Cerf Brothers Bag Company (State) | Earth City, MO | 01/12/07 | 02/10/07
60754 | Page Foam Cushioned Products (Comp) | Johnstown, PA | 01/12/07 | 01/11/07
60755 | ITW Paslode (Comp) | Portage, WI | 01/12/07 | 01/11/07
60756 | Eramet Marietta (USW) | Marietta, OH | 01/12/07 | 01/11/07
60757 | Alan White (Wkrs) | Shannon, MS | 01/12/07 | 01/11/07
60758 | Bosch Security System (IBEW) | Lancaster, PA | 01/12/07 | 01/10/07
60759 | Charter Communications (Wkrs) | Irwindale, CA | 01/12/07 | 01/08/07
60760 | Ahlstrom, LLC (USW) | Mt. Holly Springs, PA | 01/12/07 | 01/11/07
60761 | Doyle Enterprises, Inc. (Comp) | Rock Mount, VA | 01/12/07 | 01/11/07

[FR Doc. E7-1073 Filed 1-24-07; 8:45 am]

BILLING CODE 4510-30-P